DEPARTMENT OF COMMERCE

National Oceanic and Atmospheric Administration

RIN 0648-XY52

South Atlantic Fishery Management Council; Public Meetings

AGENCY: National Marine Fisheries Service (NMFS), National Oceanic and Atmospheric Administration (NOAA), Commerce.

ACTION: Notice of public meetings.

SUMMARY: The South Atlantic Fishery Management Council will hold a meeting of its Spiny Lobster Committee, King and Spanish Mackerel Committee, Personnel Committee (Closed Session), Ecosystem-Based Management Committee, Law Enforcement Committee, Joint Executive and Finance Committees, Southeast Data, Assessment, and Review (SEDAR) Committee, Snapper Grouper Committee, Advisory Panel Selection Committee (Closed Session), Golden Crab Committee, Standard Operating, Policy and Procedures (SOPPs) Committee and a meeting of the Full Council. The Council will take action as necessary.

The Council will also hold an informal public question and answer session, and a public comment session regarding agenda items. As part of the meeting, newly appointed Council members will take the Oath of Office. See SUPPLEMENTARY INFORMATION for additional details.

DATES: The meeting will be held September 13-17, 2010. See SUPPLEMENTARY INFORMATION for specific dates and times.

ADDRESSES: The meeting will be held at the Charleston Marriott Hotel, 170 Lockwood Boulevard, Charleston, SC 29403; Telephone: 1-800/968-3569 or 843/723-3000; Fax 843-266-1479. Copies of documents are available from Kim Iverson, Public Information Officer, South Atlantic Fishery Management Council, 4055 Faber Place Drive, Suite 201, North Charleston, SC 29405.

FOR FURTHER INFORMATION CONTACT: Kim Iverson, Public Information Officer; telephone: 843/571-4366 or toll free at 866/SAFMC-10; fax: 843/769-4520; email: kim.iverson@safmc.net.

SUPPLEMENTARY INFORMATION:

Meeting Dates

New Council member Oath of Office: September 13, 2010, 1:30 p.m. until 1:45 p.m.

NOAA Fisheries' Regional Administrator will administer the Oath of Office to new members appointed to the Council by the Secretary of Commerce.

Spiny Lobster Committee: September 13, 2010, 1:45 p.m. until 3:30 p.m.

The Spiny Lobster Committee will continue to review actions for Amendment 10 to the joint Fishery Management Plan (FMP) for Spiny Lobster for Gulf of Mexico and South Atlantic. Amendment 10 will address the requirements of the Reauthorized Magnuson-Stevens Fishery Conservation and Management Act (MSA) including establishment of Annual Catch Limits (ACLs) and Accountability Measures (AMs). The Committee will review draft Spiny Lobster Amendment 10 and the Draft Environmental Impact Statement (DEIS) and provide direction to staff.

King and Spanish Mackerel Committee Meeting: September 13, 2010, 3:30 p.m. until 5:30 p.m.

The Mackerel Committee will continue to review actions for draft Amendment 18 to the FMP for Coastal Migratory Pelagic Resources for the Gulf of Mexico and South Atlantic Region. Amendment 18 addresses requirements of the MSA to set ACLs and AMs for species managed in the FMP. The Committee will review the draft amendment and Environmental Assessment and provide direction to staff.

Personnel Committee Meeting (CLOSED SESSION): September 13, 2010, 5:30 p.m. until 6 p.m.

The personnel committee will meet in closed session to discuss the current status of staff positions and review the Executive Director's recommendations.

Ecosystem-Based Management Committee Meeting: September 14, 2010, 8:30 a.m. until 10:30 a.m.

The Ecosystem-Based Management Committee will receive an overview of the actions and alternatives currently in draft Comprehensive Ecosystem-Based Amendment 2, and the Comprehensive ACL Amendment, including the recommendations from the Council's Scientific and Statistical Committee (SSC), and provide guidance to staff. The Committee will also discuss invasive species issues, including input from its advisory panels, and provide guidance to staff.

Law Enforcement Committee Meeting: September 14, 2010, 10:30 a.m. until 12 noon

The Law Enforcement Committee will review recommendations from its advisory panel relative to law enforcement issues and discuss other issues as appropriate.

Joint Executive/Finance Committees Meeting: September 14, 2010, 1:30 p.m. until 2:30 p.m.

The joint Executive/Finance Committees will receive updates on the Calendar Year 2010 budget and additional SEDAR funding, discuss a letter relative to Florida's management of spiny lobster, octocorals, and several reef fish species, and future timeliness of recreational data for management purposes.

SEDAR Committee Meeting: September 14, 2010, 2:30 p.m. until 4 p.m.

The SEDAR Committee will develop recommendations for SEDAR participants and approve sea bass update documents, review the Council's research plan, develop recommendations relative to Council stock assessment priorities and other issues for the next SEDAR Steering Committee meeting, and review and provide recommendations regarding a SEDAR participant disclosure form.

Snapper Grouper Committee Meeting: September 14, 2010, 4 p.m. until 5 p.m., and September 15, 2010, 8:30 a.m. until 5 p.m.

The Snapper Grouper Committee will receive a report on outreach and research activities associated with the Oculina Bank Experimental Closed Area, a report from the Council's SSC, and a presentation on the analysis of closure alternatives relative to potential changes from the red snapper benchmark assessment. The Committee will provide direction to staff regarding approaches and mechanisms for consideration at the December 2010 Council meeting relative to red snapper.

The Committee will review Amendment 18 to the Snapper Grouper Fishery Management Plan (FMP) and provide recommendations for approval of the amendment for public hearings. Amendment 18 includes actions to extend the range of the snapper grouper management complex northward, modifications to the golden tilefish and black sea bass pot commercial fisheries, and improvements for fisheries statistics.

The Committee will review alternatives for Amendments 20, 24 and Regulatory Amendment 9 to the Snapper Grouper FMP and provide recommendations for staff. Amendment 20 will modify and update the current Individual Transferable Quota (ITQ) program for wreckfish. Amendment 24 addresses requirements under the MSA for red grouper and black grouper, including establishment of ACLs, AMs, and a rebuilding plan for red grouper. Regulatory Amendment 9 includes alternatives to specify trip limits for black sea bass, vermilion snapper, gag, and greater amberjack and to address possible changes for the requirement of sea turtle release gear within the snapper grouper fishery.

The Committee will also review options papers for Amendments 21 and 22, and provide guidance to staff. Amendment 21 addresses alternatives for management of the snapper grouper fishery including: implementation of trip limits, effort and participation reductions, endorsements, catch shares, and regional quotas.

Amendment 22 includes options for long-term management measures for red snapper in the South Atlantic as the stock rebuilds. The Committee will also review management alternatives for the Comprehensive ACL Amendment that will specify ACLs, AMs and other values as mandated in the MSA for species managed by the Council and not subject to overfishing. This includes species in the Snapper Grouper, Coral, Golden Crab, Sargassum, and Dolphin Wahoo fishery management units.

The Committee will also review a letter from the Florida Fish and Wildlife Conservation Commission to Dr. Bob Shipp, Chairman of the Gulf of Mexico Fishery Management Council relative to Florida management and provide guidance to staff.

NOTE: There will be an informal public question and answer session with NOAA Fisheries Services' Regional Administrator and the Council Chairman on September 15, 2010 beginning at 5:30 p.m.

Advisory Panel Selection Committee Meeting: September 16, 2010, 8:30 a.m. until 10 a.m. (CLOSED SESSION)

The Advisory Panel Selection Committee will review applications for open seats and provide recommendations to Council.

Golden Crab Committee Meeting: September 16, 2010, 10 a.m. until 11 a.m.

The Golden Crab Committee will discuss SSC actions relative to the golden crab fishery, review the results of the Golden Crab AP meeting, and receive an update on Amendment 5 to the Golden Crab FMP to implement a catch share program for the fishery.

SOPPs Committee Meeting: September 16, 2010, 11 a.m. until 12 noon

The SOPPs Committee will review the Final Rule addressing council SOPPs, develop changes to the SOPPs as necessary, and provide direction to staff.

Council Session: September 16, 2010, 1:30 p.m. until 5:30 p.m. and September 17, 2010, 8:30 a.m. until 12 noon

Council Session: September 16, 2010, 1:30 p.m. until 5:30 p.m.

From 1:30 p.m. - 2 p.m., the Council will call the meeting to order, adopt the agenda, approve the June 2010 meeting minutes, and elect a Chairman and Vice-Chairman.

Note: A public comment period on any of the September meeting agenda items will be held on September 16, 2010 beginning at 2 p.m.

From 3 p.m. - 3:45 p.m., the Council will receive a report from the Spiny Lobster Committee and take action as appropriate.

From 3:45 p.m. - 4 p.m., the Council will receive a report from the Mackerel Committee and take action as appropriate.

From 4 p.m. - 4:15 p.m., the Council will receive a report from the Ecosystem-Based Management Committee and take action as appropriate.

From 4:15 p.m. - 4:30 p.m., the Council will receive a report from the Law Enforcement Committee and take action as appropriate.

From 4:30 p.m. - 5 p.m., the Council will receive a legal briefing (CLOSED SESSION).

Council Session: September 17, 2010, 8:30 a.m. until 12 noon

From 8:30 a.m. - 8:45 a.m., the Council will receive a report from the Executive/Finance Committees and take action as appropriate.

From 8:45 a.m. - 9 a.m., the Council will receive a report from the SEDAR Committee and take action as appropriate.

From 9 a.m. - 9:30 a.m., the Council will receive a report from the Snapper Grouper Committee and take action as appropriate.

From 9:30 a.m. - 9:45 a.m., the Council will receive a report from the Advisory Panel Selection Committee and take action as appropriate.

From 9:45 a.m. - 10 a.m., the Council will receive a report from the Golden Crab Committee and take action as appropriate.

From 10 a.m. - 10:15 a.m., the Council will receive a report from the SOPPs Committee and take action as appropriate.

From 10:15 a.m. 12 noon, the Council will receive status reports from NOAA Fisheries' Southeast Regional Office, NOAA Fisheries' Southeast Fisheries Science Center, review Experimental Fishing Permits as necessary, receive agency and liaison reports, and discuss other business including upcoming meetings.

Documents regarding these issues are available from the Council office (see ADDRESSES).

Although non-emergency issues not contained in this agenda may come before this Council for discussion, those issues may not be the subjects of formal final Council action during this meeting. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by September 8, 2010.

August 24, 2010.
William D. Chappell,
Acting Director, Office of Sustainable Fisheries, National Marine Fisheries Service.

[FR Doc. 2010-21340 Filed 8-26-10; 8:45 am]

BILLING CODE 3510-22-S